DEPARTMENT OF AGRICULTURE

Forest Service

Notice of Resource Advisory Committee Meeting

AGENCY: Modoc Resource Advisory Committee, Alturas, California, USDA Forest Service.

ACTION: Notice of meeting.

SUMMARY: Pursuant to the authorities in the Federal Advisory Committees Act (Public Law 92-462) and under the Secure Rural Schools and Community Self-Determination Act of 2000 (Pub. L. 106-393) the Modoc National Forest's Modoc Resource Advisory Committee will meet Wednesday, August 7th, 2002, Wednesday, August 21st, 2002, and Wednesday, September 11th, 2002, in Alturas, California for business meetings. The meetings are open to the public.

SUPPLEMENTARY INFORMATION: The business meeting August 7th begins at 5 pm., at the Modoc National Forest Office, Conference Room, 800 West 12th St., Alturas. Agenda topics will include approval of July 10, 2002 minutes, projects submitted for the new fiscal year 2003, reports from subcommittees and review and selection of projects that will improve the maintenance of existing infrastructure, implement stewardship objectives that enhance forest ecosystems, and restore and improve health and water quality that meet the intent of Pub. L. 106-393. Time will also be set aside for public comments at the beginning of the meeting. The business meeting August 21st begins at 5 pm., at the Modoc National Forest Office, Conference Room, 800 West 12th St., Alturas. Agenda topics will include approval of the August 7, 2002 minutes, projects submitted for the new fiscal year 2003, reports from subcommittees and selection of projects on the Modoc National Forest that meet the intent of Pub. L. 106-393. Time will be set aside for public comments at the beginning of the meeting. The business meeting September 11th begins at 5 pm., at the Modoc National Forest Office, Conference Room 800 West 12th St., Alturas. Agenda topics will include approval of the August 21, 2002 minutes, projects submitted for the new fiscal year 2003, reports from subcommittees and selection of projects on the Modoc National Forest that meet the intent of Pub. L. 106-393. Time will be set aside for public comments at the beginning of the meeting.

FOR FURTHER INFORMATION CONTACT: Dan Chisholm, Forest Supervisor and Designated Federal Officer, at (530) 233-8700; or Public Affairs Officer Nancy Gardner at (530) 233-8713.

Dan Chisholm,
Forest Supervisor.

[FR Doc. 02-16810 Filed 7-3-02; 8:45 am]

BILLING CODE 3410-11-M